DEPARTMENT OF AGRICULTURE

Forest Service

Revised Land and Resource Management Plans for the Huron-Manistee National Forests (Alcona, Crawford, Iosco, Lake, Manistee, Mason, Mecosta, Montcalm, Muskegon, Newaygo, Oceana, Ogemaw, Oscoda and Wexford Counties, MI); the Hiawatha National Forest (Alger, Cheboygan, Chippewa, Delta, Luce, Mackinac, Marquette and Schoolcraft Counties, MI); and the Ottawa National Forest (Baraga, Gogebic, Houghton, Iron, Marquette and Ontonagon Counties, MI)

AGENCY: Forest Service, USDA.

ACTION: Notice of Intent to prepare Environmental Impact Statements.

SUMMARY: The USDA Forest Service intends to prepare three separate and individual Environmental Impact Statement (EIS) documents for revising the Huron-Manistee, Hiawatha and Ottawa National Forest Land and Resource Management Plans (Forest Plan) pursuant to 16 U.S.C. 1604(f) (5) and USDA Forest Service National Forest System Land and Resource Management Planning regulations. The National Forests in Michigan are concurrently starting the revision process for each of the three National Forests. The Revised Forest Plans for each Forest will supersede the existing Forest Plans, which were approved in the mid-1980's, and any amendments associated with those individual Forest Plans. This Notice describes the focus areas of change, the estimated dates for filing the EIS, the information concerning public participation, the names and addresses of the responsible agency official and the individual who can provide additional information for each of the three National Forests in Michigan. In an effort to create efficiencies in the process, the Michigan National Forests are identifying areas of Plan Revision where resources, information needs, data assessments and public involvement can be cooperatively accomplished by all three Forests.

DATES: Your comments are needed on this Notice of Intent (NOI) in writing on or before November 17, 2003. The Draft EIS documents should be available for public review by March 2005. The Final EIS and Revised Forest Plans should be completed by March 2006. Comments should be addressed to the appropriate National Forest as shown below.

ADDRESSES: Send written comments to:

Huron-Manistee Nat'l Forests

NOI-FP Revision, Huron-Manistee Nat'l Forest, 1755 S. Mitchell St., Cadillac, MI 49601

Hiawatha Nat'l Forest

NOI-FP Revision, Hiawatha Nat'l Forest, 2727 No. Lincoln Rd., Escanaba, MI 49829

Ottawa Nat'l Forest

NOI-FP Revision, Ottawa Nat'l Forest, E6248 U.S. Hwy. 2, Ironwood, MI 49938.

Or direct electronic mail to (type: NOI-FP Revision in the subject line):

Huron-Manistee Nat'l Forest: r9_huronmanistee_revision@fs.fed.us.

Hiawatha Nat'l Forest: r9_hiawatha_revision@fs.fed.us.

Ottawa Nat'l Forest: r9_ottawa_revision@fs.fed.us.

FOR FURTHER INFORMATION CONTACT:

Huron-Manistee Nat'l Forests

Forest Planner, 231-775-5023, Fax: 231-775-5551, TTY: 231-775-3183, www.fs.fed.us/r9/hmnf

Hiawatha Nat'l Forest

Forest Planner, 906-786-4062, Fax: 906-789-3311, TTY: 906-789-3337, www.fs.fed.us/r9/hiawatha

Ottawa Nat'l Forest

Forest Planner, 906-932-1330, Fax: 906-932-0122, TTY: 906-932-0301, www.fs.fed.us/r9/ottawa

Responsible Official: Randy Moore, Regional Forester, Eastern Region, 626 East Wisconsin Ave., Milwaukee, Wisconsin 53202.

SUPPLEMENTARY INFORMATION: The Regional Forester for the Eastern Region gives notice of the Agency's intent to prepare three separate EIS documents to revise the Huron-Manistee, Hiawatha and Ottawa National Forest Plans. The Regional Forester approved the original National Forest Plans in the mid-1980's. These plans guide the overall management of the Michigan National Forests. The six primary decisions in the Forest Plan are:

1. Forest-wide multiple-use goals and objectives,

2. Forest-wide management requirements,

3. Management area direction,

4. Lands suited and not suited for resource use and production (timber management etc.),

5. Monitoring and evaluation requirements,

6. Recommendations to Congress (such as wilderness), if any.

By the requirements of the National Forest Management Act, National Forests must revise the Forest Plan every 10-15 years (U.S.C. 1604(f)(5)). At this time, there are three reasons to revise the current Forest Plans: (1) The National Forest Management Act of 1976 requires that such plans be revised every 10-15 years; (2) New research and information is available regarding management of forestlands; and (3) agency goals and objectives, along with other national guidance for strategic plans and programs, have changed. The agency Government Performance and Results Act Strategic Plan (2000) provides guidance to forest planning.

Proposed Actions for Revising the Forest Plans: Across the state of Michigan, people value the opportunities public forests provide for enjoying recreation, solitude, nature study, and scenic beauty. People also expect important products from managed forests, such as wildlife species and habitats, recreation opportunities and events, wood products, and other forest products. The Michigan National Forests are integral to the sense of place for communities across the State, as well as adjoining states.

However, each of the three Michigan National Forests also serves local communities with diverse needs and unique expectations. When making decisions in the revised plans, economic and social impacts will be examined. Each National Forest has proposed to focus analysis on topics identified as being most critically in need of change for their individual National Forest. These were identified through public comment, monitoring and evaluating implementation of the current forest plan.

Hiawatha National Forest Revision Topics

1. Sustainable Ecosystems, Conditions and Uses

The Hiawatha National Forest has diverse ecosystems that provide habitat for numerous plants and animals, serve as a setting for recreational activities, and provide a mix of forest products. Since the implementation of the Forest Plan, new information on the ecological function and capability of the forest landscape has been developed. The Hiawatha has also completed mapping of ecological units using updated criteria and information, which will be used, along with other resource information, to:

• Determine the most effective mix of tree species, their sizes and locations;

• Determine how the vegetation composition and structure will provide conditions that contribute to species viability, habitat for game species, recreation, and forest products;

• Determine the best locations to manage for old growth characteristics;

• Determine what lands are suitable for timber harvests.

The Hiawatha National Forest proposes the following revisions to the Forest Plan:

A. Vegetation Management: Some of the Plan's vegetation composition and structure goals have not been met. This is due to numerous factors, including changed market demand, natural events (such as insect and disease infestations, wind events and fire), and the discovery of new rare plant and animal species. Species most affected were jack pine and the aspen group. The Hiawatha proposes to:

1. Review and change, where necessary, the vegetation goals, objectives, standards, and guidelines.

2. Use improved information about the Forest's ecosystems to better align management prescriptions where ecosystem capabilities favor their applications.

B. Threatened, Endangered, Proposed, Sensitive and Management Indicator Species: The Hiawatha has many threatened, endangered or sensitive plant and animal species. These species require a diverse array of ecological conditions. Based on species viability evaluation and review of the current Forest Plan, the Hiawatha proposes to:

1. Revise desired future conditions, goals, objectives and standards and guidelines to address rare species.

2. Incorporate by reference designated federally threatened, endangered and proposed and Regional Forester Sensitive Species.

3. Evaluate and change Management Indicator Species, as necessary, based on monitoring and new information.

4. Assess current and projected Canada lynx habitat to determine the amount and distribution of suitable habitat. Develop standards and guidelines that incorporate the Canada Lynx Conservation Strategy, when appropriate.

C. Land Suitability: The Plan classifies lands as suited and unsuited for timber production. Because of improved ecological classification information there is a need to review the Hiawatha's lands allocated as suited and unsuited for timber production. The Hiawatha proposes to review and change, as necessary, lands identified as suitable and not suitable for timber production incorporating new information on ecosystems sustainability and capability.

D. Old Growth: The Forest Plan provides for a minimum of 51,988 acres of lands classified as suitable for timber production to be designated as old growth. This implies that timber harvest could occur because suited lands are available to contribute the Forest's timber volume goals. The plan also provides guidance on the amount and species composition by management area. New ecological information and monitoring of designated old growth stands indicates some adjustments to the old growth system are needed. The Hiawatha proposes to:

1. Review the old growth system design focusing on ecological function.

2. Designate core old growth areas that include: wilderness, research natural areas, semi-primitive non-motorized areas, and Grand Island National Recreation Area.

3. Maintain current plan minimum of 51,988 acres of designated old growth in addition to core areas; however, re-classify designated old growth stands from suited to unsuited for timber production.

4. Develop forest-wide desired future conditions, goals, objectives, and standards and guidelines for old growth.

E. Management Areas: The Hiawatha has 26 different management areas. Each area has a desired condition, prescriptions and standards and guidelines. The Hiawatha has mapped its ecological land types (ELT) to better define the inherent ecosystem capabilities that change across the forest. There is a need to modify management goals and objectives so that management is better aligned with the inherent capability of the land and other multiple use objectives. The Hiawatha proposes to review and change management areas to incorporate ecological land types, new information on ecosystems, sustainability and capability concepts and other pertinent resource information.

F. Research Natural Areas: Research Natural Areas are examples of important forest, shrubland, grassland, alpine, aquatic and geologic types that have special or unique characteristics to complete the national network of research natural areas (RNAs). The Hiawatha has 3 designated and 18 candidate RNAs. The Hiawatha proposes to review the existing candidate RNAs using new ecological information (ecological land-type mapping).

G. Timber Output: The Hiawatha's projected timber harvest may change in response to changes to land suitability, management prescriptions, and vegetation goals. Any changes to lands identified as suited for timber production, as well as vegetation objectives, may have an affect on timber volume. The Hiawatha proposes to adjust, as necessary, the Plan's timber projections based on changes to land suitability, vegetation goals and management areas.

2. Watershed Health

Approximately 46 percent of the Hiawatha National Forest is designated as wetlands. It includes nearly 1,850 miles of streams and 28,700 acres of lakes and ponds. Based on new ecological information, monitoring, and review of existing Plan direction, the following areas need to be updated:

A. Watershed, Riparian and Aquatic Habitat: The Hiawatha proposes to:

1. Develop a desired future condition, goals, objectives, standards and guidelines for watershed, riparian and aquatic resources.

2. Incorporate by reference the State of Michigan Water Quality Management Practices on Forest Land (BMPs).

3. Establish watershed, riparian and aquatic monitoring protocol and standards.

B. Soils: The Hiawatha proposes to:

1. Develop a desired future condition, goals, objectives, standards and guidelines to insure that soil productivity and function is maintained in conjunction with new ecological information.

2. Incorporate by reference regional soil standards.

3. Recreation

A. Access: Recreation use and demands for access have changed since the Forest Plan was developed. Conflicts between motorized and non-motorized recreation users have increased and demands for access to inland lakes and the Great Lakes continue to rise. The Hiawatha National Forest proposes to develop forest-wide and/or update management area desired condition statements, goals, objectives, standards and guidelines for recreation access. It will include direction for:

1. Motorized and non-motorized access that provides opportunities for future loop and connected trails.

2. Forest-wide direction for OHV (off highway vehicles) use.

3. The quantity and development level for inland lakes and Great Lakes boat accesses.

4. Providing access to both motorized and non-motorized recreation settings on inland lakes.

B. Recreation Opportunity Spectrum. Forest plan Amendment 5 (which resolved the appeal(s) of the Forest Plan in 1986), allocated the areas of Delia's Run, Boot Lake and Buck Bay Creek to a “semi-primitive non-motorized (SPNM) recreation opportunity spectrum (ROS). Prior to the amendment, these areas were allocated to a “roaded natural” ROS. These areas do not meet the desired future condition for management for the SPNM recreation setting because there is a historic pattern and significant motorized use throughout these areas and the quality of the setting is not beneficial to SPNM recreation. The Hiawatha proposes to change the ROS classification for these areas from semi-primitive non-motorized to semi-primitive motorized.

4. Wilderness and Wild and Scenic Rivers

A. Wilderness Areas: The Hiawatha National Forest has six wilderness areas (Rock River Canyon, Big Island Lake, Mackinac, Round Island, Delirium, and Horseshoe Bay) and two RARE II (Roadless Area Review and Evaluation) Areas (Government Island and Fibre). The Forest conducted an initial roadless inventory and found no areas except Fibre that qualified as roadless. Based on our initial inventory and assessment, only Fibre will be further evaluated for wilderness study.

B. Wild and Scenic Rivers: The Forest Plan identified the Indian, Carp, Whitefish, Sturgeon, and East Branch Tahquamenon Rivers as “study rivers” for evaluation of their potential for possible inclusion in the National Wild and Scenic Rivers System (WSR). They were allocated to Management Area 8.4, with management direction that would not diminish their river values or free-flowing condition. As a result of the Michigan Scenic Rivers Act of 1991, these rivers were designated as Federal Wild and Scenic Rivers. Those segments with primarily National Forest ownership were designated as wild and scenic rivers, while those segments with primarily private ownership were designated as study rivers. The Hiawatha completed resource assessments for all five rivers and amended the plan with comprehensive management plans for the Indian and Carp Rivers.

The Hiawatha proposes to:

1. Incorporate specific river management plans and establish final corridor boundaries for the designated sections of the East Branch Tahquamenon, Sturgeon and Whitefish Rivers.

2. Incorporate new information and update management direction for National Forest lands within the study river segments.

Your Comments are Important to Us: Your comments about the Hiawatha National Forest's proposed actions for revising the Forest Plan are important. It would be most helpful if you clearly indicated that you are referencing the Hiawatha National Forest's proposed changes and specific items/areas where you are in agreement with the proposal or wish to express a concern or alternative approach. Your rationale for agreeing or providing different viewpoints will assist the Forest in understanding your position, developing alternatives, and/or addressing your concern.

The document titled “Need for Change, Description of Proposal for Revising the Forest Plan of the Hiawatha National Forest” provides additional details on the revision topics and is available upon request. You are encouraged to review this additional document before commenting on the Notice of Intent. You may request this additional information by calling the number listed above, by writing or e-mailing to the addresses listed in this notice, or by accessing the Forest's Web page.

See the schedule of public meetings that appears in the section “Inviting Public Participation”.

Huron-Manistee National Forests Revision Topics

The Huron-Manistee National Forests have completed the Forest Plan Revision “Need for Change, Description of Proposal for Revising the Forest Plan of the Huron-Manistee National Forests.” The following summarizes the proposed changes to the Forest Plan that are necessary to bring the 1986 Forest Plan as amended up-to-date.

1. Sustaining Ecosystems, Conditions and Uses

A. Management Areas: The Huron-Manistee National Forest's management areas are based on ecological and social economic considerations. Each management area has unique desired conditions, goals and objectives. There is a need to change management areas, desired conditions, goals and objectives because there is new ecological and social information and conditions. The Huron-Manistee National Forests propose to:

1. Increase ruffed grouse emphasis areas by 1,400 acres; Rural areas by 74,300 acres; Semiprimitive Areas by 10,500 acres; and candidate Research Natural Areas by 9,600 acres; and decrease the sandy hills and plains management area by 59,700 acres and deer and wildlife emphasis areas by 20,800 acres.

2. Establish desired conditions, goals, and objectives for the aquatics and riparian, undesirable invasive species, fire and hazardous fuel management, and oil and gas resources.

3. Update the desired conditions, goals and objectives for vegetation, wildlife, fish, rare plants, soils, and semiprimitive recreation areas.

B. Wildlife and Rare Plants: The Huron-Manistee National Forests have many threatened, endangered or sensitive plant and animal species. These species require an array of ecological conditions. Other wildlife changes are proposed because areas are better suited for specific wildlife species, semiprimitive recreation opportunities, or candidate research natural areas. Based on species viability evaluation and review of the current Forest Plan, the Huron-Manistee National Forests propose to:

1. Manage the Regional Forester Sensitive Species according to the Eastern Region Regional Forester's Sensitive Species Framework.

2. Restore and maintain large-scale openings for grassland, prairie, savannah, and oak-pine barrens up to approximately 10 percent of the sandy hills and plains land type associations (approximately 58,600 acres). The size of openings may be up to approximately 500 acres.

3. Restore Kirtland's warbler nesting habitat areas up to approximately 550 acres in size.

4. Protect resource values by managing landforms such as coastal plain marshes, bogs, swales, fens, and mesic prairies consistent with ecological processes.

5. Improve habitat conditions for species such as: American ginseng, northern goshawk, red-shouldered hawk, red headed woodpecker, Eastern massasauga rattlesnake, cerulean warbler, and common loon.

6. Change the Nordhouse Dunes North Semiprimitive Area to a grouse emphasis area.

7. Increase the amount of ruffed grouse emphasis areas by approximately 1,400 acres and reduce the deer emphasis areas by approximately 18,511 acres and wildlife emphasis areas by approximately 2,326 acres in order to establish candidate research natural areas and semiprimitive areas.

C. Research Natural Areas: The Huron-Manistee National Forests presently have three research natural areas and four candidate research natural areas. The Forests have inventoried potential areas for candidate research natural areas and propose to add 19 candidate research natural areas (approximately 9,600 acres) to protect unique or representative areas and conduct research, observation, and education programs.

D. Management Indicator Species and Monitoring: The Huron-Manistee National Forests have management indicator species and conducts monitoring annually. The Forests annually prepare a monitoring and evaluation report. There is a need to identify management indicator species to improve the monitoring and evaluation of the effects of implementing the Forest Plan and to monitor in an efficient and effective manner. The Forests propose to evaluate, and revise if needed, management indicator species and monitoring requirements during the preparation of the draft environmental impact statement and Forest Plan.

E. Timber Management: The Huron-Manistee National Forests Allowable Sale Quantity is 82.2 MMBF per year; Maximum Long Term Sustained Yield Capacity is 261.0 MMBF per year; and little or no timber volume was projected from lands classified as not suitable for timber production. The lands suitable for timber management have changed due to past decisions and proposed Forest Plan revision changes. The Forests are planning activities, such as stewardship contracts and timber sales, to restore old growth, create small and large-scale openings and create permanent fuel breaks on lands classified as not suitable for timber production. The Forests propose to:

1. Recalculate the maximum long-term sustained yield capacity.

2. Add an objective/outcome for timber derived from lands classified as not suitable for timber production (non-chargeable to the allowable sale quantity volume) up to approximately 20 MMBF per year.

2. Watershed Health

The Huron-Manistee National Forests updated aquatic standards and guidelines in 2003 through Forest Plan Amendment number 24. Based on a review of the Forest Plan, the Forests propose the following changes:

1. Incorporate Aquatic Ecological Classification and Inventory System information into the aquatics desired condition.

2. Categorize lakes in the desired conditions, goals and objectives in terms of baseline trophic status and morphological/hydrological sensitivity in order to better manage our lakes.

3. Incorporate by reference the terms and conditions of applicable Federal Energy Regulatory Commission license orders as standards and guidelines.

4. Update the guideline to manage vegetation attractive to beaver in riparian areas to closer mimic natural disturbance regimes.

3. Recreation

A. Semiprimitive: The Forests reviewed existing and potential semiprimitive areas for suitability and propose the following changes:

1. Add approximately 5,000 acres of semiprimitive non-motorized recreation areas.

2. Add approximately 5,500 acres of semiprimitive motorized areas.

3. Change the southern portion of the Briar Hills Semiprimitive Non-motorized Area to a semiprimitive motorized area.

B. Aesthetics: Visual quality objectives have been replaced by the National Scenery Management System which incorporates ecological and socio-economic considerations in scenery management. The Forests propose to incorporate the Scenery Management System visual integrity and sensitivity principles to better integrate ecological and social considerations.

C. Access: The Huron-Manistee National Forests have adequate Forest Plan direction for access (roads and trails). The Forest Plan did not consider new uses such as mountain bikes. The Forests propose to allow mountain bikes on trails unless posted closed. Evaluate and incorporate into the Forest Plan, as needed, new trail uses as they occur.

4. Wilderness and Wild and Scenic Rivers

A. Wilderness: The Huron-Manistee National Forests have one Wilderness Area, Nordhouse Dunes, and one RARE II (Roadless Area Review and Evaluations) area, Bear Swamp. The Forests conducted an initial roadless inventory and found no areas that qualified as roadless. Based on our initial inventory and assessment, no areas would be recommended for wilderness study.

B. Wild and Scenic Rivers: The Huron-Manistee National Forests have five federally designated national wild and scenic rivers. River management plans have been developed and approved for all rivers. The Forests have four study rivers. Some of the wild and scenic or study rivers boundaries need to be established or improved. Recent changes in land uses have altered the values of some of the study rivers. The Forests propose to:

1. Change the Au Sable River management area boundary to extend to roads on both sides of the River.

2. Place the White River, Little Manistee River, and a portion of the Pine River up to M-55 in “lands-in-holding” status until river studies are completed.

3. Drop the Little Muskegon and Muskegon Rivers from further Wild and Scenic River study because of limited federal ownership and private development along the rivers.

5. Wildland Fire and Fuels Management

The Huron-Manistee National Forests' Forest Plan contains general guidance on fire and fuels management. The Forests are comprised of land type association and vegetative communities that are fire dependent. The Forests are also highly fragmented with private ownership and an increasing number of new homes and cabins. The Forest Service, through the National Fire Plan, is emphasizing fire and fuels management. The Huron-Manistee National Forests reviewed the current situation, new information (ecological, social and Forest Service direction) and propose to:

1. Add a standard to integrate fire and fuels management with natural resources and programs.

2. Include a description of the urban-rural interface (mixed forests and dense housing areas) and intermix (mixed forests and sparse housing areas) within the desired condition of Management Areas 2.4 and 4.4 (approximately 77,500 acres).

3. Include a description of the fire history, forest type, fuel loadings and risks, fire suppression strategy, and fire response in the desired conditions of each management area.

4. Include a guideline to manage hazardous fuels by mimicking natural fire regimes in fire-dependent ecosystems and at-risk urban-rural interface and intermix areas.

5. Add an objective/outcome to annually initiate, create or maintain approximately 2,000 acres of fuel barriers and 8,000 acres of hazardous fuels reduction.

6. Add a guideline to limit fuel barrier creation to be up to approximately 8 miles in length and temporary or permanent openings up to approximately 500 acres in size.

7. Add a guideline to conduct, as needed, project-level fuels hazard reduction effectiveness monitoring.

6. Minerals

The Huron-Manistee National Forests have a very modest oil and gas program. The Forests have identified National Forest System lands available for oil and gas development and have established adequate standards and guidelines. Regulations require the Forest Plan to include a reasonable foreseeable development of oil and gas resources and the identification of lands which may be leased. The Forest proposes to:

1. Calculate the Reasonable Foreseeable Oil and Gas Development (our interim estimate is approximately 100 wells on National Forest System lands) for the next 10-15 years.

2. Identify National Forest System lands which may be consented to lease for oil and gas developments.

Your Comments are Important to Us: Your comments about the Huron-Manistee National Forests proposed actions for revising the Forest Plan are important. It would be most helpful if you clearly indicated that you are referencing the Huron-Manistee National Forests' proposed changes and specific items/areas where you are in agreement with the proposal or wish to express a concern or alternative approach. Your rationale for agreeing or providing different viewpoints will assist the Forests in understanding your position, developing alternatives, and/or addressing your concern. The document titled “Need for Change, Description of Proposal for Revising the Forest Plan of the Huron-Manistee National Forests' provides additional details on the revision topics and is available upon request. You are encouraged to review this additional document before commenting on the Notice of Intent. You may request this additional information by calling the number listed above, by writing or e-mailing to the addresses listed in this notice, or by accessing the Forests' Web page. See the schedule of public meetings that appears in the section “Inviting Public Participation”.

Ottawa National Forest Revision Topics

1. Sustaining Ecosystems, Conditions and Uses

Since the implementation of the present Forest Plan began in 1986 advancements have been made in knowledge of ecological capabilities and mapping of ecological units. This knowledge, along with field experience, will be used to reassess the suitability of lands for timber management, enhance the contribution to the viability of plant and animal species, provide for cultural, commercial and personal uses of special forest products, and adjust management objectives to better match ecosystems capabilities. Specifically, the following will be addressed:

A. Invasive Species: The Forest Plan will be revised to include standards and guidelines outlining a Forest-wide program on non-native invasive plant and animal listing, inventory, mapping, treatment, and monitoring, as the current Plan direction is limited in this area.

B. Management Indicator Species: The Forest will evaluate and change Management Indicator Species (MIS), as necessary, based on monitoring and new information.

C. Vegetation Management: New information concerning: The suitability of lands for timber production, biological diversity, conditions that support the viability of species, cultural, commercial and personal uses of special forest products, and ecosystem capacity offer the Forest an opportunity to better align the management of the resources to ecosystem capabilities.

Through the revision process the Forest proposes to:

1. Review, and as needed, change forest-wide goals and management requirements, location and management direction for individual management areas including standards and guidelines to enhance the contribution to the viability of native and desired non-native species known to reside on the Forest, as well as other multiple use objectives, including cultural uses and values.

2. Change Forest Plan direction as needed to contribute to a diversity of plant and animal communities, and tree species, consistent with the overall multiple-use objectives of the planning area.

3. Change the location and number of acres of land suited and not suited for timber production in order to maintain soils productivity and high quality water conditions.

4. Better align hardwood silviculture (management methods) with ecosystem units which favor its application. This will result in an increase in the number of acres managed uneven-aged versus even-aged.

5. Emphasize the retention and or expansion of white pine and hemlock in northern hardwood stands to improve biodiversity.

6. Increase the number of acres managed for long-lived conifers.

7. Maintain or increase a number of acres of short rotation conifers as needed to further contribute to habitat for native species.

8. Adjust the amount and location of aspen forests to better match ecosystems capabilities, align with new suitable lands information and support conservation of the Canada lynx.

9. Change Forest Plan direction concerning the management of forest stands adjacent to old growth. In addition, old growth management direction may be changed as needed to contribute to species viability.

10. Adjust the amount of managed forest openings to better match ecosystem capabilities and opportunities.

11. Change Forest Plan direction to address the role of wildfire and prescribed fire in fire-prone ecosystems including management areas emphasizing conifer species.

It is anticipated that these proposed actions will lead to a change in species composition objectives in some management areas, and change the location and size of some management areas. As a result, the ability of the Forest to maintain its current and projected levels of timber harvest and contribution to the regional economic market will be reassessed.

D. Research Natural Areas: Research Natural Areas are examples of important forest, shrubland, grassland, alpine, aquatic and geologic types that have special or unique characteristics to complete the national network of research natural areas (RNAs). The Ottawa has 1 designated and 2 candidate RNAs. The Ottawa proposes to review the existing candidate RNAs using new ecological information.

E. Canada Lynx: Management direction for the Forest will provide habitat and management direction that supports the conservation of the threatened Canada lynx.

2. Watershed Health

A. Watershed, Riparian and Aquatic Habitat: The Revised Forest Plan will include standards and guidelines that enhance protections and guide management decisions in riparian areas. These will address riparian function and structure which contribute to biodiversity. These will also address management to improve cold-water stream habitats.

B. Management of Dams: Guidelines will be included in the Revised Forest Plan to be considered with projects involving existing dams , or additions or removals of dams on forest streams. Guidelines will address residual stream flow, habitat for sensitive species, trout fisheries, and recreational values. Guidelines for hydro-power dams on the Forest managed under licenses administered by the Federal Energy Regulatory Commission are contained within their respective licenses.

C. Federal Energy Regulatory Commission: Incorporate by reference the terms and conditions of applicable Federal Energy Regulatory Commission license orders.

3. Recreation

All-Terrain Vehicle/Off Road Vehicle (ATV/ORV) use on the Ottawa National Forest is rapidly changing. Current Forest Service policy is to manage ATV/ORV use. To be consistent with Forest Service policy, the Ottawa National Forest will consider allowing for a designated ATV/ORV system. Current direction on areas and roads open to use needs to be clarified to better manage this use. In addition to developing guidelines that protect natural resources in areas where these uses may occur, the Forest will look for opportunities to coordinate ATV/ORV use and access with adjoining roads, trails and lands held by private and public owners.

4. Wilderness and Wild and Scenic Rivers

A. Wilderness: A roadless inventory and potential wilderness evaluation will be part of the revision process. The inventory process will analyze areas for roadless qualities. Those areas that meet basic inventory criteria will be evaluated as potential wilderness study areas. Based on the results of this work, recommendations to Congress may be made for potential wilderness study areas.

B. Wild and Scenic Rivers: The Ottawa is working to complete Comprehensive River Management Plans and finalize river corridor boundaries. Portions of six river systems were designated as part of the National Wild and Scenic River System with Michigan Scenic Rivers Act of 1991. The Forest Plan will be amended in the future, as necessary, based on completion of this work.

Your Comments are Important to Us: Your comments about the Ottawa National Forest's proposed actions for revising the Forest Plan are important. It would be most helpful if you clearly indicate that you are referencing the Ottawa National Forest's proposed changes and specific items/areas where you are in agreement with the proposal or wish to express a concern or alternative approach. Your rationale for agreeing or providing different viewpoints will assist the Forest's concern in understanding your position, developing alternatives, and/or addressing your concern. Again, please clearly indicate the Ottawa National Forest, your viewpoints, and your rationale. Additional detail on the revision topics is available on request, in the form of the document titled “Need for Change, Description of Proposal for Revising the Forest Plan of the Ottawa National Forest”. You are encouraged to review this additional document before commenting on the Notice of Intent. You may request the additional information by calling the phone number listed above, by writing or e-mailing to the addresses listed in this notice, or by accessing the Forest web page listed in this notice. See the schedule of public meetings that appears in the section “Inviting Public Participation”.

Range of Alternatives for Revising the Forest Plans: A range of alternatives will be considered when revising the Forest Plan for each of the Michigan National Forests. The alternatives will review different options to resolve the revision topics. A “no-action alternative” is required, meaning that management would continue under the existing Forest Plan.

Goals and standards and guides may be proposed to address portions of revision topics and typically will not vary between alternatives. Forest Plan objectives, management area direction, and other recommendations may vary by alternatives. Other minor changes may be made particularly in the guidance chapter of the Forest Plan, to reflect changes made when addressing the above revision topics.

Tribal Consultation and Collaboration with Government Agencies: The Michigan National Forests will continue to meet trust responsibilities with Native American Tribes by working collaboratively through the consultation process as outlined in the Memorandum of Understanding Regarding Tribal—USDA Forest Service relations on National Forest System Lands and with Tribes in the Territories Ceded in Treaties of 1836, 1837, and 1842 (Sec. VI.B). Treaty rights are exercised by tribes and tribal members in various ways such as hunting, fishing and gathering. The Forest Service recognizes treaty rights as a matter of national policy and consults with tribes to ensure that Agency decisions do not adversely affect these rights.

In acknowledgment of the Federal Government's obligation to consult effectively with federally recognized Indian tribes, the three Michigan National Forests will conduct government-to-government consultation with tribal governments for all tribes located near or having rights in the Forests, particularly those which retain rights through treaties. Forest Service officials will meet with tribal governing bodies, representatives, and agencies to discuss tribal interests, needs and concerns regarding National Forest management.

The Forest Service will also continue the ongoing relationships with state and federal agencies. This will be accomplished jointly between the three Michigan National Forests and the appropriate State and local agencies to provide for more consistent management and better service to the public.

Inviting Public Participation: Comments and suggestions are now solicited from federal agencies, state and local governments, individuals, tribes, and organizations on the scope of the analysis to be included in the DEIS for the Revised Forest Plan (40 CFR 1501.7). Comments should focus on: (1) The proposal for revising the Forest Plans; (2) possible alternatives for addressing issues associated with the proposal; and (3) identify any possible impacts associated with the proposal based on an individual's civil rights (race, color, national origin, age, religion, gender, disability, political beliefs, sexual orientation, marital or family status). Public participation throughout the revision process is encouraged.

With the publication of this NOI, the Forest Service will host a series of public meetings to (1) establish multiple opportunities for the public to generate ideas, concerns, and alternatives, (2) present and clarify proposed changes to the Forest Plan; (3) describe ways that individuals can respond to this NOI; and (4) accept comments from the public on this proposal for revising the Forest Plan.

In the year 2004 work on alternative development and issue validation will be done. Many types of public involvement including public meetings, tribal and governmental consultation, written comments, website, and e-mail will be conducted.

In the year 2005 the proposed Revised Forest Plans and DEISs will be released. Many types of public involvement including a 90-day formal comment period, public meetings, tribal and governmental consultation, and written comments will be conducted. During 2006 the final Revised Forest Plan, EIS, and Record of Decision will be released.

Informational meetings to explain the decision on the final Forest Plan will be held. General notices on opportunities to participate through mailings, news releases, public meetings, consultations and website will be provided. In addition to formal opportunities for comment, comments will be received and considered at any time throughout the revision process.

A representative from each of the three Michigan National Forests will be in attendance at the series of meetings listed below in the schedule titled “Michigan National Forests.”

MICHIGAN NATIONAL FORESTS
(Huron-Manistee, Hiawatha, and Ottawa)
Date | Time | Comment | Location
10/20/2003 | 12-6 p.m | Open House | Muskegon, Michigan—Comfort Inn, 1675 E. Sherman Road.
| 6:30-9 p.m | Listening Session
10/21/2003 | 12-6 p.m. | Open House | Grand Rapids, Michigan—Howard Johnson's, 255 28th Street, SW.
| 6:30-9 p.m. | Listening Session
10/22/2003 | 12-6 p.m. | Open House | Lansing, Michigan—Clarion Hotel/Conf. Center, 3600 Dunckel Drive.
| 6:30-9 p.m. | Listening Session
10/23/2003 | 12-6 p.m. | Open House | Livonia, Michigan—Embassy Suites, 19525 Victor Parkway.
| 6:30-9 p.m. | Listening Session

Each of the Michigan National Forests will host open house meetings to (1) answer specific questions relative to the NOI and (2) to provide information on how to comment on the NOI and to accept written comments from the public. Following is a schedule of the meetings:

HIAWATHA NATIONAL FOREST
Date | Time | Location
10/20/2003 | 6:30-9 p.m. | Sault Ste. Marie, Michigan—Lake Superior State University, Cisler Center.
10/21/2003 | 6:30-9 p.m. | St. Ignace, Michigan—Little Bear East Arena & Community Center, 275 Marquette Street.
10/22/2003 | 6:30-9 p.m. | Marquette, Michigan—Northern Michigan University, University Center, Michigan Room.
10/23/2003 | 6:30-9 p.m. | Escanaba, Michigan—Bay de Noc Community College, M-tech Building 2000 N 30th Street.
10/27/2003 | 6:30-9 p.m. | Munising, Michigan—Munising Community Credit Union, Community Center, Main Street & M-28.

HURON-MANISTEE NATIONAL FORESTS
Date | Time | Comment | Location
10/14/2003 | 12-6 p.m. | Open House | Baldwin, Michigan—Pleasant Plains Township Hall, 885 8th Street.
| 6:30-9 p.m. | Public Comment
10/15/2003 | 12-6 p.m. | Open House | Wellston, Michigan—Chittenden Environmental Ctr., The Conifers Building, 1070 Nursery Road.
| 6:30-9 p.m. | Public Comment
10/16/2003 | 12-6 p.m. | Open House | Oscoda, Michigan—Warrior's Pavillion on Van Ettan Lake, 6288 F-41.
| 6:30-9 p.m. | Public Comment
10/21/2003 | 12-6 p.m. | Open House | Cadillac, Michigan—McGuire's Resort, 7880 Mackinaw Trail.
| 6:30-9 p.m. | Public Comment
10/22/2003 | 12-6 p.m. | Open House | Mio, Michigan—Mio Community Center, 305 East Ninth St.
| 6:30-9 p.m. | Public Comment

OTTAWA NATIONAL FOREST
Date | Time | Location
10/06/2003 | 6-8 p.m. (EST) | Ontonagon, Michigan—Ontonagon Area High School, 701 Parker Ave.
10/08/2003 | 6-8 p.m. (CST) | Ironwood, Michigan—Gogebic Community College, Room B21/B22, E4946 Jackson Road.
10/09/2003 | 6-8 p.m. (CST) | Iron River, Michigan—Iron River City Hall, 106 West Genesee Street.
10/15/2003 | 6-8 p.m. (EST) | Baraga, Michigan—Best Western Lakeside Inn, 900 South US41.
10/18/2003 | 1-3 p.m. (EST) | Ewen, Michigan—Ewen—Trout Creek School, 144 Airport Road.
10/20/2003 | 6-8 p.m. (CST) | Watersmeet, Michigan—Watersmeet Visitor Center, Hwy U.S. 2 & Hwy 45.

Availability of Public Comment: Comments received in response to this solicitation, including names and addresses of those who comment, will be considered part of the public record for this proposed action and will be available for public inspection. Comments submitted anonymously will be accepted and considered. Those who submit anonymous comments will not have standing to appeal the subsequent decisions under 36 CFR part 215 or 217.

Additionally, pursuant to 7 CFR 1.27(d), any person may request the agency to withhold a submission from the public record by showing how the Freedom of Information Act (FOIA) permits such confidentiality. Persons requesting such confidentiality should be aware that under FOIA, confidentiality may be granted in only very limited circumstances, such as to protect trade secrets.

The Forest Service will inform the requester of the Agency's decision regarding the request for confidentiality and if the requester is denied, the Agency will return the submission and notify the requester that the comments may be resubmitted with or without name and address within 90 days.

Release and Review of the DEIS: The DEISs are expected to be filed with the Environmental Protection Agency (EPA) and to be available for public comment in 2005. At that time, the EPA will publish a Notice of Availability in the Federal Register. The comment period on the DEIS will be 90 days from the date the EPA publishes the Notice of Availability in the Federal Register.

The Forest Service believes it is important to give reviewers notice of several court rulings related to public participation in the environmental review process. First, reviewers of DEISs must structure their participation in the environmental review of the proposal so that it is meaningful and alerts an agency to the reviewer's position and contentions [Vermont Yankee Nuclear Power Corp. v. NRDS, 435 U.S. 519, 553 (1978)]. Also, environmental objections that could be raised at the DEIS stage but that are not raised until after completion of the final EIS may be waived or dismissed by the courts [City of Angoon v. Hodel, 803 F.2d 1016, 1022 (9th cir. 1986) and Wisconsin Heritages, Inc. v. Harris, 490 F. Supp. 1334, 1338 (E.D. Wis. 1980)]. Because of these court rulings it is very important that those interested in this proposed action participate by the close of the 90-day comment period so substantive comments and objections are made available to the Forest Service at a time when it can meaningfully consider them and respond to them in the final EIS.

To assist the Forest Service in identifying and considering issues and concerns on the proposed action, comments on the DEIS should be as specific as possible. It is also helpful if comments refer to specific pages or chapters of the DEIS. Comments may also address the adequacy of the DEIS or the merits of the alternatives formulated and discussed in the statement. Reviewers may wish to refer to the Council of Environmental Quality Regulations (http://ceq.eh.doe.gov/ nepa/nepanet.htm) for implementing the procedural provision of the National Environmental Policy Act at 40 CFR 1503.3 in addressing these points.

Dated: August 22, 2003.
Randy Moore,
Regional Forester.

[FR Doc. 03-22252 Filed 9-17-03; 8:45 am]

BILLING CODE 3410-11-P